DEPARTMENT OF HOUSING AND URBAN DEVELOPMENT

[Docket No. FR-5030-FA-07]

Announcement of Funding Awards for the Youthbuild Program; Fiscal Year 2006

AGENCY: Office of the Assistant Secretary for Community Planning and Development, HUD.

ACTION: Notice of funding awards.

SUMMARY: In accordance with section 102 (a)(4)(C) of the Department of Housing and Urban Development Reform Act of 1989, this announcement notifies the public of funding decisions made by the Department in a competition for funding under the Notice of Funding Availability (NOFA) for the Youthbuild Program. This announcement contains the names of the awardees and the amounts of the awards made available by HUD.

FOR FURTHER INFORMATION CONTACT: Jackie L. Williams, Ph.D., Director, Office of Rural Housing and Economic Development, Office of Community Planning and Development, 451 Seventh Street, SW., Room 7137, Washington, DC 20410-7000; telephone (202) 708-2290 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The Youthbuild Program was authorized under subtitle D of title IV of the Cranston-Gonzalez National Affordable Housing Act, as added by section 164 of the Housing and Community Development Act of 1992 (Pub. L. 102-550, 106 Stat. 3723, 42 USC. 12899). Applications were rated and selected for funding on the basis of selection criteria contained in the notice.

The Catalog of Federal Domestic Assistance number for this program is 14.243. The purpose of the Youthbuild Program is to assist disadvantaged young adults between the ages of 16 and 24 years of age in distressed communities to: (1) Complete their high school education; (2) provide on-site construction training experiences which result in the rehabilitation or construction of housing for homeless persons and low- and very low-income families; (3) foster leadership skills; (4) further opportunities for placement in apprenticeship programs; and (5) promote economic self-sufficiency for program participants. The funds made available under this program were awarded competitively, through a selection process conducted by HUD.

For the Fiscal Year 2006 competition, a total of $45.5 million was awarded to 74 projects nationwide. In accordance with section 102(a)(4)(C) of the Department of Housing and Urban Development Reform Act of 1989 (103 Stat. 1987. 42 U.S.C. 3545), the Department is publishing the grantees and amounts of the awards in Appendix A to this document.

Dated: January 17, 2008.
Nelson R. Bregón,
General Deputy Assistant Secretary.

APPENDIX A

Fiscal Year 2006 Youthbuild Awards
Recipient | City | State | Award
Hale Empowerment and Revitalization Oganization | Greensboro | AL | $400,000
City of Texarkana | Texarkana | AR | 400,000
City of Phoenix | Phoenix | AZ | 700,000
San Diego Community Housing Corporation | San Diego | CA | 400,000
Watts Labor Community Action Committee | Los Angeles | CA | 700,000
Black Contractors Association of San Diego | San Diego | CA | 700,000
Fresno County Economic Opportunities Commission | Fresno | CA | 700,000
Community Services & Employment Training Inc. | Visalia | CA | 700,000
Los Angeles Communities Advocating for Unity, Social Justice | Los Angeles | CA | 700,000
San Joaquin County Office of Education | Stockton | CA | 400,000
Yuba County Office of Education | Marysville | CA | 360,000
Empower New Haven | New Haven | CT | 400,000
Co-Opportunity, Inc. | Hartford | CT | 700,000
ARCH | Washington | DC | 700,000
Nat'l Assoc. of Former Foster Care Children of America, Inc. | Washington | DC | 700,000
Latin American Youth Center | Washington | DC | 700,000
Sasha Bruce Youthwork, Inc. | Washington | DC | 700,000
Greater Miami Services Corps | Miami | FL | 400,000
The District Board of Trustees of Pensacola Junior College | Pensacola | FL | 400,000
Housing Authority of Lakeland | Lakeland | FL | 700,000
City of Savannah, Georgia | Savannah | GA | 700,000
Southwest Georgia United Empowerment Zone, Inc. | Vienna | GA | 400,000
Genesis Housing Development Corp | Chicago | IL | 700,000
Youthbuild Lake County, Inc. | North Chicago | IL | 700,000
Emerson Park Development Corporation | East St. Louis | IL | 700,000
YouthBuild McLean County | Bloomington | IL | 700,000
Comprehensive Community Solutions, Inc. | Rockford | IL | 700,000
New Life Youth Development Corporation | Gary | IN | 400,000
The Housing Authority of the city of Evansville | Evansville | IN | 700,000
Louisiana Technical College—Sullivan Campus | Bogalusa | LA | 400,000
Old Colony | Brockton | MA | 700,000
Community Teamwork, Inc. | Lowell | MA | 700,000
Lawrence Family Development and Education Fund, Inc. | Lawrence | MA | 700,000
YWCA of Western Massachusetts | Springfield | MA | 700,000
Just a Start Corporation | Cambridge | MA | 700,000
Old Colony Youthbuild | Brockton | MA | 700,000
Training Resources of America Inc. | Worcester | MA | 700,000
YouthBuild Boston, Inc. | Roxbury | MA | 700,000
Civic Works, Inc. | Baltimore | MD | 700,000
Housing Authority of Baltimore City | Baltimore | MD | 700,000
Coastal Enterprises, Inc. | Wiscasset | ME | 400,000
Community Action Agency | Jackson | MI | 400,000
Manistee Housing Commission | Manistee | MI | 400,000
Michigan Works | Benton Harbor | MI | 700,000
Young Detroit Builders | Detroit | MI | 700,000
Friedens Neighborhood | St. Louis | MO | 400,000
Housing Authority of St. Louis County | St. Louis | MO | 700,000
West Jackson Community Development Corporation | Jackson | MS | 700,000
River City Community Development Corporation | Elizabeth City | NC | 400,000
Lincoln Action Program | Lincoln | NE | 700,000
High Plains Community Development Corporation, Inc. | Chadron | NE | 400,000
Youthbuild Newark, Inc | Newark | NJ | 700,000
Housing Authority Of The City Of Camden | Camden | NJ | 700,000
South Bronx Overall Economic Development Corporation | Bronx | NY | 700,000
Buckeye Community Hope Foundation | Columbia | OH | 700,000
Akron Summit Community Action Inc. | Akron | OH | 700,000
Future Community Builders | Columbus | OH | 700,000
ISUS Inc. | Dayton | OH | 700,000
Youth Over Us, Inc. | Columbus | OH | 700,000
Philadelphia Youth for Change | Philadelphia | PA | 700,000
The Providence Plan | Providence | RI | 700,000
The Housing Authority for the City Spartanburg | Spartanburg | SC | 700,000
Benedict-Allen Community Development Corporation | Columbia | SC | 700,000
Chattanooga Housing | Chattanooga | TN | 700,000
Alliance for Business and Training | Elizabethton | TN | 700,000
La Fe Community Development Center | El Paso | TX | 400,000
San Antonio Youth Centers, Inc. | San Antonio | TX | 700,000
Alameda Heights Outreach Foundation | Dallas | TX | 700,000
American Youthworks | Austin | TX | 700,000
Community Development Corporation of Brownsville | Brownsville | TX | 400,000
Employment Resources Incorporated (ERI) | Fredericksburg | VA | 700,000
Nooksack Indian Tribe | Deming | WA | 400,000
Southern Appalachian Labor School | Kincaid | WV | 700,000
Human Resources Development and Employment, Inc. | Morgantown | WV | 400,000

[FR Doc. E8-1428 Filed 1-25-08; 8:45 am]

BILLING CODE 4210-67-P